DEPARTMENT OF LABOR

Employment and Training Administration

[TA-W-52,543]

Arch Chemicals, Inc., Lake Charles, LA; Notice of Termination of Investigation

Pursuant to section 221 of the Trade Act of 1974, as amended, an investigation was initiated on August 12, 2003, in response to a petition filed on behalf of workers at Arch Chemicals, Inc., Lake Charles, Louisiana.

The petitioners have requested that the petition be withdrawn. Consequently, the investigation has been terminated.

Signed at Washington, DC, this 11th day of September, 2003.
Linda G. Poole,
Certifying Officer, Division of Trade Adjustment Assistance.

[FR Doc. 03-27443 Filed 10-30-03; 8:45 am]

BILLING CODE 4510-30-P